DEPARTMENT OF TRANSPORTATION

Coast Guard

[USCG-2001-9970]

Great Lakes Pilotage Advisory Committee; Vacancies

AGENCY: Coast Guard, DOT.

ACTION: Request for applications.

SUMMARY: The Coast Guard is soliciting applications for appointment as a member who has a background in finance or accounting to the Great Lakes Pilotage Advisory Committee (GLPAC). GLPAC advises the Coast Guard on regulations and policies for the pilotage of vessels on the Great Lakes.

DATES: Application forms should reach us on or before July 26, 2001.

ADDRESSES: You may request an application form by writing to Commandant (G-MW), U.S. Coast Guard, 2100 Second Street SW., Washington, DC 20593-0001; by calling 202-267-6164; or by faxing 202-267-4700. Send your application in written form to the above address. This notice and the application form are available on the Internet at http://dms.dot.gov.

FOR FURTHER INFORMATION CONTACT: Frank Flyntz, Executive Director of GLPAC, or Tom Lawler, Assistant to the Executive Director, telephone 202-267-1068 or 202-267-1241, fax 202-267-4700.

SUPPLEMENTARY INFORMATION: The Great Lakes Pilotage Advisory Committee is a Federal advisory committee under 5 U.S.C. App. 2. It advises the Assistant Commandant for Marine Safety and Environmental Protection on matters relating to Great Lakes pilotage. It may advise, consult with, report to, and make recommendations to the Secretary of the Department of Transportation and may make these recommendations available to the Congress.

GLPAC meets at the call of the Secretary at least once a year. It may also meet at the call of a majority of its members. Its subcommittees and working groups may meet to consider specific problems as required.

GLPAC is composed of seven members as follows:

(a) The President of a pilots' association in each of the three Great Lakes pilotage districts.

(b) One member who represents the interests of vessel operators that contract for Great Lakes pilotage services.

(c) One member who represents the interests of Great Lakes ports.

(d) One member who represents the interests of shippers whose cargoes are transported through Great Lakes ports; and

(e) One member.

The candidate for appointment by the Secretary of Transportation must be recommended to the Secretary by a unanimous vote of the members serving on the Committee.

In support of the policy of the Department of Transportation on gender and ethnic diversity, we encourage qualified women and members of minority groups to apply.

Dated: June 1, 2001.
Jeffrey P. High,
Director, Waterways Management.

[FR Doc. 01-15992 Filed 6-25-01; 8:45 am]

BILLING CODE 4910-15-P